DEPARTMENT OF TRANSPORTATION

Federal Aviation Administration

Fifth Meeting—RTCA Special Committee 217/EUROCAE WG 44 Plenary: Airport Mapping Databases

AGENCY: Federal Aviation Administration (FAA), DOT.

ACTION: Notice of RTCA Special Committee 217/EUROCAE WG 44 Plenary meeting: Airport Mapping Databases.

SUMMARY: The FAA is issuing this notice to advise the public of a meeting of RTCA Special Committee 217/EUROCAE WG 44.

DATES: The meeting will be held on October 26-30, 2009, from 9 a.m. to 5 p.m.

ADDRESSES: The meeting will be held at Rockwell Collins Office, 3350 Monte Villa Parkway, Suite 200, Bothell, WA 98021. Contact: Brian Gilbert, 425-492-1309, 425-891-8219 (cell), bdgilber@rockwellcollins.com

FOR FURTHER INFORMATION CONTACT: RTCA Secretariat, 1828 L Street, NW., Suite 805, Washington, DC 20036-5133; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 217/EUROCAE WG 44 Plenary: Airport Mapping Databases meeting. The agenda will include:

Monday, October 26

• 9 a.m.—Opening Plenary

• Chairmen's remarks and introductions

• Approve minutes from previous meeting

• Review and approve meeting agenda

• Discussion

• Schedule for this week

• Schedule for next meetings

• Action Items

• 10 a.m.—Presentations

• FAA Airports GIS database—Mike Burski

• Airport Resolution Standards—Lisa Haskell

• Report on Connectivity Items—Christian Pschierer

• 2 p.m.—Terrain, Obstacle, and Airport Mapping discussions

• Discussion on AMDB and ICAO Recommendations

Tuesday, October 27

• 9 a.m.—Terrain, Obstacle, and Airport Mapping discussions

• 1 p.m.—Address Outcome from “Roadmap Items” (outcome from assigned actions)

Wednesday, October 28

• 9 a.m.—Joint Meeting with SC-214/WG78

• 1 p.m.—Terrain, Obstacle, and Airport Mapping discussions

Thursday, October 29

• 9 a.m.—Terrain, Obstacle, and Airport Mapping discussions

Friday, October 30

• 9 a.m.—Terrain, Obstacle, and Airport Mapping discussions

• 10:30 a.m.—Plenary Session

• Other Business, Determine and agree on action plan, Meeting Plans and Dates

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 24, 2009.
Kimberly Gill,
RTCA Advisory Committee.

[FR Doc. E9-23528 Filed 9-29-09; 8:45 am]

BILLING CODE 4910-13-P